DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 26, 2010.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on October 19, 2010.
Donald Burger,
Chief, Special Permits and Approvals Branch.

New Special Permits
Application No. | Docket No. | Applicant | Regulation(s) affected | Nature of special permits thereof
15112-N |  | Explo Systems.com MINDEN, LA | 49 CFR 173.62 | To authorize the transportation of a Division 1.3 explosive (M6 solid propellant) in alternative packaging (supersack). (Mode 1).
15135-N |  | Product Quest Mfg, LLC Daytona Beach, FL | 49 CFR 173.306 (a)(3)(v) transportation in | To authorize the commerce of certain DOT 2P non-refillable aerosol containers that are leak tested by an alternative method in lieu of the required hot water bath. (Modes 1, 2, 3, 4, 5).
15136-N |  | Luxfer Gas Cylinders RIVERSIDE, CA | 49 CFR 173.302a(a), 173.304a(a), 175.3 and 180.205 | To authorize the manufacture, marking, sale and use of a non-DOT specification fully-wrapped carbon fiber composite cylinder with a seamless aluminum liner designed, manufactured and tested in accordance with ISO 11119 part 2. (Modes 1, 2, 3, 4, 5).
15141-N |  | Material Innovations, Inc. Knoxville, TN | 49 CFR 172.101 Column (9), Part 172 except for air, and 173.302a | To authorize the manufacture, marking, sale and use of non-DOT specification metal containers containing Boron Trifluoride, classed as Division 2.3 for use in radiation detectors. (Modes 1, 2, 3, 4, 5).
15143-N |  | Warbelow's Air Ventures, Inc.-FC Fairbanks, AK | 49 CFR 173.302(f) (3) and (f)(4) and 173.304(f)(3) and (f)(4) | To authorize the transportation in commerce of cylinders containing oxidizing gases without outer packaging capable of passing the Flame Penetration and Resistance Test and the Thermal Resistance Test when no other practical means of transportation exist. (Mode 4).
15146-N |  | ITW Tech Spray LLC AMARILLO, TX | 49 CFR 173.304(d) | To authorize the transportation in commerce of a refrigerant gas in a DOT 2Q container. (Modes 1, 2, 3, 4).
15149-N |  | American Spraytech North Branch, NJ | 49 CFR 173.306 (a)(3)(v) | To authorize the transportation in commerce of certain aerosols containing a Division 2.2 compressed gas in certain non-refillable aerosol containers which are not subject to the hot water bath test. (Mode 1).
15150-N |  | National Aeronautics and Space Administration (NASA) Kennedy Space Center, FL | 49 CFR 180.205 | To authorize the transportation in commerce of certain cylinders that are retesting using acoustic emissions and are tested every 10 years rather than every five years. (Modes 1, 2, 3, 4, 5).
15156-N |  | Ludlum Measurements Inc. Sweetwater, TX | 49 CFR 173.302a, 173.306(a)(2), 172.400 except for air transportation and 172.504 | To authorize the manufacture, marking, sale and use of a non-specification plastic pressure vessel for transportation of non-flammable compressed gases. (Modes 1, 2, 3, 4, 5, 6).
15161-N |  | Exide Technologies Milton, GA | 49 CFR 173.159(e) | To authorize the transportation in commerce of lead batteries from more than one shipper without voiding the exception in § 173.159(e). (Mode 1).
15162-N |  | Billings Flying Service, Inc. Billings, MT | 49 CFR 172.101 Column (9B), 172.204(c)(3), 175.30(a)(1) and Part 178 | To authorize the transportation in commerce of certain explosives that are forbidden for transportation by cargo aircraft in alternative packaging when transported in Part 133 sling load operations. (Mode 4).
15163-N |  | Peninsula Airways Inc. (PenAir) Anchorage, AK | 49 CFR 173.302 (f)(3) and (f)(4) and 173.304(f)(3) and (f)(4) | To authorize the transportation in commerce of cylinders containing oxidizing gases without without outer packaging capable of passing the Flame Penetration and Resistance Test and the Thermal Resistance Test when no other practical means of transportation exist. (Modes 4, 5).

[FR Doc. 2010-26726 Filed 10-25-10; 8:45 am]

BILLING CODE 4909-60-M